NATIONAL FOUNDATION ON THE ARTS AND THE HUMANITIES

Institute of Museum and Library Services

Notice of Proposed Information Collection Requests: 21st Century Museum Professionals Program Notice of Funding Opportunity

AGENCY: Institute of Museum and Library Services, National Foundation on the Arts and the Humanities.

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this Notice is to solicit comments concerning a plan to offer a new discretionary grant program to support the development and enhancement of a diverse workforce of museum professionals with an initial emphasis on spurring economic growth through workforce development in the post-pandemic environment, particularly for cultural institutions in rural and economically distressed communities.

A copy of the proposed information collection request can be obtained by contacting the individual listed below in the ADDRESSES section of this Notice.

DATES: Written comments must be submitted to the office listed in the addressee section below on or before September 18, 2023.

ADDRESSES: Send comments to Connie Bodner, Ph.D., Director of Grants Policy and Management, Office of Grants Policy and Management, Institute of Museum and Library Services, 955 L'Enfant Plaza North SW, Suite 4000, Washington, DC 20024-2135. Dr. Bodner can be reached by telephone: 202-653-4636, or by email at cbodner@imls.gov. Office hours are from 8:30 a.m. to 5 p.m., E.T., Monday through Friday, except federal holidays.

Persons who are deaf or hard of hearing (TTY users) can contact IMLS at 202-207-7858 via 711 for TTY-Based Telecommunications Relay Service.

FOR FURTHER INFORMATION CONTACT: Mark Isaksen, Supervisory Grants Management Specialist, Office of Museum Services, Institute of Museum and Library Services, 955 L'Enfant Plaza North SW, Suite 4000, Washington DC 20024-2135. Mr. Isaksen can be reached by telephone at 202-653-4667, or by email at misaksen@imls.gov. Persons who are deaf or hard of hearing (TTY users) can contact IMLS at 202-207-7858 via 711 for TTY-Based Telecommunications Relay Service.

SUPPLEMENTARY INFORMATION: IMLS is particularly interested in public comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

The Institute of Museum and Library Services is the primary source of federal support for the Nation's libraries and museums. We advance, support, and empower America's museums, libraries, and related organizations through grant making, research, and policy development. To learn more, visit www.imls.gov.

II. Current Actions

The purpose of the 21st Century Museum Professionals (21MP) Program will be to develop and enhance a diverse workforce of museum professionals by offering professional development opportunities; employing strategies for training and recruiting future museum professionals; and supporting evaluation efforts to identify and share effective practices. There will be an initial emphasis on spurring economic growth through workforce development in the post-pandemic environment, particularly for cultural institutions in rural and economically distressed communities.

IMLS recognizes the important role of strong local and regional networks as essential tools for providing peer-to-peer learning, training, and mentoring opportunities. The 21MP Program will thus encourage applications from not only museums but also museum associations, museum studies programs at Institutions of Higher Education, and museums that serve as essential parts of the professional learning and training environment.

Agency: Institute of Museum and Library Services.

Title: 21st Century Museum Professionals Program Notice of Funding Opportunity.

OMB Control Number: 3137-NEW.

Agency Number: 3137.

Respondents/Affected Public: Museums, museum associations, museum studies programs at Institutions of Higher Education, and museums that serve as essential parts of the professional learning and training environment.

Total Estimated Number of Annual Respondents: 40.

Frequency of Response: Once per request.

Average Minutes/Hours per Response: TBD.

Total Estimated Number of Annual Burden Hours: TBD.

Cost Burden (dollars): TBD.

Public Comments Invited: Comments submitted in response to this Notice will be summarized and/or included in the request for OMB's clearance of this information collection.

Dated: July 14, 2023.
Suzanne Mbollo,
Grants Management Specialist, Institute of Museum and Library Services.

[FR Doc. 2023-15369 Filed 7-19-23; 8:45 am]

BILLING CODE 7036-01-P